DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Response to Office Action and Voluntary Amendment Forms (formerly Electronic Response to Office Action and Preliminary Amendment Forms).

Form Number(s): PTO-1960, 1957, 1966, 1771, 1822.

Agency Approval Number: 0651-0050.

Type of Request: Revision of a currently approved collection.

Burden: 96,752 hours annually.

Number of Respondents: 224,183 responses per year.

Avg. Hours per Response: The USPTO expects that it will take the public approximately 10 minutes (0.17 hours) to 35 minutes (0.58 hours) to gather the necessary information, create the document, and submit the completed request, depending upon the type of request and the method of submission (electronic or paper).

Needs and Uses: This collection of information is required by the Trademark Act, 15 U.S.C. 1051 et seq., which provides for the Federal registration of trademarks, service marks, collective trademarks and servicemarks, collective membership marks, and certification marks. Individuals and businesses that use such marks, or intend to use such marks, in interstate commerce may file an application to register their marks with the USPTO. In some cases, the USPTO issues Office Actions to applicants requesting missing information, or advising applicants of the refusal to register the mark. Applicants may also supplement their applications by providing further information voluntarily in the form of a Voluntary Amendment.

The information in this collection is a matter of public record and is used by the public for a variety of private business purposes related to establishing and enforcing trademark rights. The information is available at USPTO facilities and can also be accessed at the USPTO Web site.

Affected Public: Business or other for-profit.

Frequency: On occasion.

Respondent's Obligation: Required to obtain or retain benefits.

OMB Desk Officer: Nicholas A. Fraser, e-mail: Nicholas_A._Fraser@omb.eop.gov.

Once submitted, the request will be publicly available in electronic format through the Information Collection Review page at http://www.reginfo.gov.

Paper copies can be obtained by:

• E-mail: InformationCollection@uspto.gov. Include “0651-0050 copy request” in the subject line of the message.

• Mail: Susan K. Fawcett, Records Officer, Office of the Chief Information Officer, United States Patent and Trademark Office, P.O. Box 1450, Alexandria, VA 22313-1450.

Written comments and recommendations for the proposed information collection should be sent on or before May 11, 2011 to Nicholas A. Fraser, OMB Desk Officer, via e-mail to Nicholas_A._Fraser@omb.eop.gov, or by fax to 202-395-5167, marked to the attention of Nicholas A. Fraser.

Dated: April 6, 2011.
Susan K. Fawcett,
Records Officer, USPTO, Office of the Chief Information Officer.

[FR Doc. 2011-8502 Filed 4-8-11; 8:45 am]

BILLING CODE 3510-16-P